DEPARTMENT OF TRANSPORTATION

Federal Aviation Administration

14 CFR Part 39

[Docket No. 2003-SW-22-AD; Amendment 39-13315; AD 2003-19-12]

RIN 2120-AA64

Airworthiness Directives; Eurocopter France Model EC 155B Helicopters

AGENCY: Federal Aviation Administration, DOT.

ACTION: Final rule; request for comments.

SUMMARY: This amendment adopts a new airworthiness directive (AD) for Eurocopter France (Eurocopter) Model EC 155B helicopters. This action requires, before further flight, determining whether the engine “GOV” warning light caution advisory display (display) panel illuminates the “GOV” warning lights when appropriate. If not, this AD requires replacing the front panel of the display panel with an airworthy display panel before further flight. This amendment is prompted by the discovery of some operating anomalies affecting the red “GOV” warning light due to wiring errors that occurred after modifying the electrical power systems. The actions specified in this AD are intended to prevent failure of the display to warn of an engine governor failure, resulting in an engine over speed, loss of an engine, and subsequent loss of control of the helicopter.

DATES: Effective October 14, 2003.

Comments for inclusion in the Rules Docket must be received on or before November 25, 2003.

ADDRESSES: Submit comments in triplicate to the Federal Aviation Administration (FAA), Office of the Regional Counsel, Southwest Region, Attention: Rules Docket No. 2003-SW-22-AD, 2601 Meacham Blvd., Room 663, Fort Worth, Texas 76137. You may also send comments electronically to the Rules Docket at the following address: 9-asw-adcomments@faa.gov.

FOR FURTHER INFORMATION CONTACT: Carroll Wright, Aviation Safety Engineer, FAA, Rotorcraft Directorate, Safety Management Group, Fort Worth, Texas 76193-0112, telephone (817) 222-5120, fax (817) 222-5961.

SUPPLEMENTARY INFORMATION: The Direction Generale De L'Aviation Civile (DGAC), the airworthiness authority for France, notified the FAA that an unsafe condition may exist on Eurocopter Model EC155B helicopters. The DGAC advises of the detection of operating anomalies affecting the red “GOV” warning lights and the need to check the engine governing warning system for correct operation before the next flight.

Eurocopter has issued Alert Service Bulletin EC155 No. 77A001, dated May 7, 2003, which specifies operational checks of the red “GOV” warning lights and the related electrical circuits. The DGAC classified the service bulletin as mandatory and issued AD No. 2003-196(A), dated May 28, 2003, to ensure the continued airworthiness of these helicopters in France.

This helicopter model is manufactured in France and is type certificated for operation in the United States under the provisions of 14 CFR 21.29 and the applicable bilateral agreement. Pursuant to the applicable bilateral agreement, the DGAC has kept the FAA informed of the situation described above. The FAA has examined the findings of the DGAC, reviewed all available information, and determined that AD action is necessary for products of these type designs that are certificated for operation in the United States.

The previously described unsafe condition is likely to exist or develop on other helicopters of the same type design. Therefore, this AD is being issued to prevent failure of the display to warn of an engine governor failure, resulting in an engine over speed, loss of an engine, and subsequent loss of control of the helicopter. This AD requires the following:

• Before further flight, determine if the display illuminates the “GOV” warning lights. If the display illuminates the “GOV” warning lights, no further action is required.

• If crosses illuminate instead of the “GOV” warning lights on the display, replace the front panel of the display with an airworthy part before further flight.

Replacing the front panel of the display with an airworthy part, part number 022TA0402, constitutes terminating action for the requirements of this AD.

An owner/operator (pilot) may perform the visual checks for an inoperative governing warning system display. Pilots may perform these checks because they require no tools and can be accomplished by observation and may be performed equally well by a pilot or a mechanic. However, the pilot must enter compliance with those requirements into the helicopter maintenance records in accordance with 14 CFR 43.11 and 91.417(a)(2)(v).

The short compliance time involved is required because the previously described critical unsafe condition can adversely affect the controllability of the helicopter. Therefore, checking that the display illuminates the “GOV” warning lights and, if necessary, replacing the front panel of the display with an airworthy part before further flight is required.

Since a situation exists that requires the immediate adoption of this regulation, it is found that notice and opportunity for prior public comment hereon are impracticable, and that good cause exists for making this amendment effective in less than 30 days.

On July 10, 2002, the FAA issued a new version of 14 CFR part 39 (67 FR 47997, July 22, 2002), which governs the FAA's AD system. The regulation now includes material that relates to altered products, special flight permits, and alternative methods of compliance. Because we have now included this material in part 39, we no longer need to include it in each individual AD.

The FAA estimates that this AD will affect 3 helicopters and will take approximately 15 minutes for an operational check of the engine governor warning system and 1 work hour to replace the front panel of the display at an average labor rate of $60 per work hour. Required parts will cost approximately $3500 per helicopter. Based on these figures, the estimated total cost impact of the AD on U.S. operators is $10,725.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2003-SW-22-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-19-12 Eurocopter France: Amendment 39-13315. Docket No. 2003-SW-22-AD.

Applicability: Model EC 155B helicopters, certificated in any category.

Compliance: Required as indicated, unless accomplished previously. To prevent failure of the caution advisory display (display) to warn of an engine governor failure, resulting in an engine over speed, loss of an engine, and subsequent loss of control of the helicopter, accomplish the following:

(a) Before further flight, on ground run-up, with both engines running:

(1) Determine if the red “GOV” warning light on the front panel of the caution display for the No. 1 engine comes on when you operate the Engine No. 1 governing mode selector.

(2) Set the selector back to the NORMAL or to the AUTO position and close the cover.

(3) Repeat this check on engine No. 2.

(4) If the display panel illuminates the “GOV” warning lights during the No. 1 and No. 2 engine checks, the panel is operating properly.

(b) An owner/operator (pilot), holding at least a private pilot certificate, may perform the visual check and must enter compliance with paragraph (a) of this AD into the helicopter maintenance records in accordance with 14 CFR sections 43.11 and 91.417(a)(2)(v)).

Note 1: Eurocopter Alert Service Bulletin EC155 No. 77A001, dated May 7, 2003, pertains to the subject of this AD.

(c) If red crosses appear on the upper line on the front panel of the display instead of the “GOV” warning lights, before further flight, replace the front panel with an airworthy front panel, part number (P/N) 022TA0402.

(d) Replacing the front panel of the display with an airworthy front panel, P/N 022TA0402, constitutes terminating action for the requirements of this AD.

(e) To request a different method of compliance or a different compliance time for this AD, follow the procedures in 14 CFR 39.19. Contact the Safety Management Group, Rotorcraft Directorate, FAA, for information about previously approved alternative methods of compliance.

(f) Special flight permits will not be issued.

(g) This amendment becomes effective on October 14, 2003.

Note 2: The subject of this AD is addressed in Direction Generale De L'Aviation Civile (France), AD No. 2003-196(A), dated May 28, 2003.

Issued in Fort Worth, Texas, on September 15, 2003.
Kim Smith,
Acting Manager, Rotorcraft Directorate, Aircraft Certification Service.

[FR Doc. 03-24282 Filed 9-25-03; 8:45 am]

BILLING CODE 4910-13-P